DEPARTMENT OF ENERGY

Federal Energy Regulatory Commission

Combined Notice of Filings #2

Take notice that the Commission received the following electric corporate filings:

Docket Numbers: EC12-67-000.

Applicants: Entergy Nuclear Generation Company, Entergy Nuclear Palisades, LLC, Entergy Nuclear Power Marketing, LLC, Entergy Nuclear Vermont Yankee, LLC, Entergy Nuclear Fitzpatrick, LLC, Entergy Nuclear Indian Point 2, LLC, Entergy Nuclear Indian Point 3, LLC, Llano Estacado Wind, LLC, Entergy Power, LLC, Northern Iowa Windpower, LLC, EAM Nelson Holding, LLC, EWO Marketing, LLC, Entergy Rhode Island State Energy, L.P.

Description: Supplemental information of EAM Nelson Holding, LLC, et al.

Filed Date: 03/02/2012.

Accession Number: 20120302-5110.

Comment Date: 5 p.m. Eastern Time on Friday, March 12, 2012.

Docket Numbers: EC12-77-000.

Applicants: APX, Inc.

Description: APX, Inc submits an Application for Authorization Under Section 203 of the Federal Power Act and Request for Expedited Action and Confidential Treatment.

Filed Date: 03/01/2012.

Accession Number: 20120302-0200.

Comment Date: 5 p.m. Eastern Time on Thursday, March 22, 2012.

Take notice that the Commission received the following electric rate filings:

Docket Numbers: ER10-1869-002; ER10-1727-002; ER10-1726-002, ER10-1671-002.

Applicants: GenOn Energy Management, LLC, GenOn Florida, LP, GenOn Wholesale Generation, LP, RRI Energy Services, LLC.

Description: Amendment to Application of GenOn Energy Management, LLC, et al.

Filed Date: 02/10/2012.

Accession Number: 20120210-5146.

Comment Date: 5 p.m. Eastern Time on Friday, March 23, 2012.

Docket Numbers: ER10-2176-007.

Applicants: Constellation Energy Commodities Group, Inc.

Description: Constellation Energy Commodities Group, Inc. submits tariff filing per 35: Market-Based Rate Tariff Compliance Under Docket ER10-2176 to be effective 3/3/2012.

Filed Date: 03/02/2012.

Accession Number: 20120302-5035.

Comment Date: 5 p.m. Eastern Time on Friday, March 23, 2012.

Docket Numbers: ER12-1195-000.

Applicants: Camden County Energy Recovery Associates, L.P.

Description: Camden County Energy Recovery Associates, L.P. submits tariff filing per 35.12: 20120302 baseline to be effective 3/30/2012.

Filed Date: 03/02/2012.

Accession Number: 20120302-5055.

Comment Date: 5 p.m. Eastern Time on Friday, March 23, 2012.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 2, 2012.
Nathaniel J. Davis, Sr.,
Deputy Secretary.

[FR Doc. 2012-5902 Filed 3-9-12; 8:45 am]

BILLING CODE 6717-01-P